DEPARTMENT OF THE TREASURY

Submission for OMB Review; Comment Request

August 7, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 13, 2002 to be assured of consideration.

Departmental Offices/International Portfolio Investment Data Systems

OMB Number: 1505-0149.

Form Number: None.

Type of Review: Extension.

Title: Reporting of International Capital and Foreign Currency Transactions and Positions, 31 CFR Part 128.

Description: 31 CFR Part 128 establishes general guidelines for report on United States claims on and liabilities to foreigners; on transactions in securities with foreigners; and on monetary reserves of the United States. It also establishes guidelines for reporting on the foreign currency transactions of U.S. persons. It includes a recordkeeping requirement § 128.5.

Respondents: Business or other for-profit.

Estimated Number of Recordkeepers: 2,000.

Estimated Burden Hours Per Recordkeeper: 3 hours.

Frequency of Response: On occasion.

Estimated Total Recordkeeping Burden: 6,000 hours.

Clearance Officer: Lois K. Holland, (202) 622-1563, Departmental Offices, Room 2110, 1425 New York Avenue, NW, Washington, DC 20220.

OMB Reviewer: Joseph F. Lackey, Jr., (202) 395-7316, Office of Management and Budget, Room 10235, New Executive Office Building, Washington, DC 20503.

Mary A. Able,
Departmental Reports, Management Officer.

[FR Doc. 02-20552 Filed 8-13-02; 8:45 am]

BILLING CODE 4811-16-P